DEPARTMENT OF HEALTH AND HUMAN SERVICES

National Institutes of Health

Center for Scientific Review; Amended Notice of Meeting

Notice is hereby given of a change in the meeting of the Center for Scientific Review Special Emphasis Panel, July 20, 2017, 11:00 a.m. to July 20, 2017, 02:00 p.m., National Institutes of Health, 6701 Rockledge Drive, Bethesda, MD 20892 which was published in the Federal Register on June 28, 2017, 82 FR 29298.

The meeting will be held on July 28, 2017 instead of July 20, 2017. The meeting time remains the same. The meeting is closed to the public.

Dated: June 29, 2017.
Melanie J. Pantoja,
Program Analyst, Office of Federal Advisory Committee Policy.

[FR Doc. 2017-14128 Filed 7-5-17; 8:45 am]

BILLING CODE 4140-01-P